Proclamation 9525 of October 14, 2016

Blind Americans Equality Day, 2016

By the President of the United States of America

A Proclamation

Each day, blind and visually impaired Americans contribute to our society, refusing to allow anything to hold them back. In order to ensure more Americans with disabilities can continue participating fully in our country, we must each do our part to promote equal opportunity for all. On Blind Americans Equality Day, we reaffirm the inherent dignity of every human being and recommit to forging a future in which all Americans, including those with visual impairments, can pursue their full measure of happiness.

More than two decades ago, one of the most comprehensive civil rights bills in our history, the Americans with Disabilities Act (ADA), was signed into law. Ever since, the ADA has helped reduce discrimination and promote equal access to classrooms, workplaces, and transportation—and it is imperative that we build on the significant progress we have made for individuals living with disabilities. Because the unemployment rate is more than twice as high for Americans with disabilities, my Administration has worked to improve employment opportunities, including within the Federal Government where we are leading as a model employer. Last year, we hosted the White House Summit on Disability and Employment, which provided resources to help employers hire more individuals with disabilities. And through the Workforce Innovation and Opportunity Act, we expanded access to critical services for many individuals with disabilities, including those who are blind or visually impaired, so that they can pursue high-quality employment opportunities. People with disabilities deserve to live their lives in their communities and raise their families, and earlier this year we hosted a Forum on the Civil Rights of Parents with Disabilities because every family, including those headed by people with disabilities, deserves the chance to reach for a future of ever greater possibility.

Our Nation must continue to promote equal opportunity and the right of all Americans to live full and independent lives. This begins early on—we must ensure that any child with a print disability can access the tools they need to pursue an education. That is why we have worked to provide appropriate materials and services, including Braille and Braille literacy instruction, in schools. We are investing in technologies that provide visually impaired students equal access to the general education curriculum. We are also working to make the websites of Government agencies and private companies more accessible to anyone with a disability—an effort which remains an important priority. And I have encouraged the Senate to ratify the Marrakesh Treaty to Facilitate Access to Published Works for Persons Who Are Blind, Visually Impaired, or Otherwise Print Disabled, which will broaden access to a new world of knowledge for these individuals.

Disability touches us all, and together we can strive to ensure that all blind and visually impaired individuals face no unnecessary barriers to success. By providing equal access to resources and technologies and giving everyone the chance to make of their lives what they will, we can continue to advance opportunity and prosperity for all our people.

By joint resolution approved on October 6, 1964 (Public Law 88-628, as amended), the Congress designated October 15 of each year as “White Cane Safety Day” to recognize the contributions of Americans who are blind or have low vision. Today, let us reaffirm our commitment to being a Nation where all our people, including those with disabilities, have every opportunity to achieve their dreams.

NOW, THEREFORE, I, BARACK OBAMA, President of the United States of America, by virtue of the authority vested in me by the Constitution and the laws of the United States, do hereby proclaim October 15, 2016, as Blind Americans Equality Day. I call upon public officials, business and community leaders, educators, librarians, and Americans across the country to observe this day with appropriate ceremonies, activities, and programs.

IN WITNESS WHEREOF, I have hereunto set my hand this fourteenth day of October, in the year of our Lord two thousand sixteen, and of the Independence of the United States of America the two hundred and forty-first.

[FR Doc. 2016-25485

Filed 10-18-16; 11:15 am]

Billing code 3295-F7-P